DEPARTMENT OF COMMERCE

National Oceanic and Atmospheric Administration

[RTID 0648-XC244]

Meeting of the Marine Fisheries Advisory Committee

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and consider approval of comments and recommendations on the draft NOAA Fisheries Equity and Environmental Justice Strategy.

DATES: The meeting will be August 23, 2022 from 3 p.m.-5 p.m., Eastern Time.

ADDRESSES: Meeting is by webinar and teleconference.

FOR FURTHER INFORMATION CONTACT: Heidi Lovett; NOAA Fisheries Office of Policy; (301) 427-8034; email: Heidi.Lovett@noaa.gov.

SUPPLEMENTARY INFORMATION: Notice is hereby given of a meeting of MAFAC. The MAFAC was established by the Secretary of Commerce (Secretary), and, since 1971, advises the Secretary on all living marine resource matters that are the responsibility of the Department of Commerce. The MAFAC charter and summaries of prior MAFAC meetings are located online at https://www.fisheries.noaa.gov/topic/partners#marine-fisheries-advisory-committee.

Matters To Be Considered

This meeting time and agenda are subject to change. The members will discuss and consider approval of comments and recommendations on the draft NOAA Fisheries Equity and Environmental Justice Strategy. MAFAC may also discuss various administrative and organizational matters, including planning their November meeting.

Time and Date

The meeting will be August 23, 2022 from 3 p.m.-5 p.m., Eastern Time by webinar and conference call. Access information for the public will be posted at https://www.fisheries.noaa.gov/national/partners/marine-fisheries-advisory-committee-meeting-materials-and-summaries by August 9, 2022.

Dated: August 2, 2022.
Samuel D. Rauch, III,
Deputy Assistant Administrator for Regulatory Programs, National Marine Fisheries Service.

[FR Doc. 2022-16901 Filed 8-5-22; 8:45 am]

BILLING CODE 3510-22-P